DEPARTMENT OF LABOR

Employment and Training Administration

Notice of Revised Determination on Reconsideration

In the matter of: TA-W-74,347; NCR Corporation, United States Postal Service Help Desk, Customer Care Center, Including On-Site Leased Workers of Volt Consulting; West Columbia, South Carolina and TA-W-74,347A; NCR Corporation Call Center, Including On-Site Leased Workers of Volt Consulting; West Columbia, South Carolina; Notice of Revised Determination on Reconsideration.

On October 7, 2010, the Department issued an Affirmative Determination Regarding Application for Reconsideration for the workers and former workers of NCR Corporation, Customer Care Center, United States Postal Service Help Desk, West Columbia, South Carolina. The Department's Notice was published in the Federal Register on October 25, 2010 (75 FR 65515).

Pursuant to 29 CFR 90.18(c), reconsideration may be granted under the following circumstances:

(1) If it appears on the basis of facts not previously considered that the determination complained of was erroneous;

(2) If it appears that the determination complained of was based on a mistake in the determination of facts not previously considered; or

(3) If in the opinion of the Certifying Officer, a misinterpretation of facts or of the law justified reconsideration of the decision.

The initial negative determination was based on the findings that the worker separations, or threat of separation, were not due to either a shift in the supply of support service abroad by NCR Corporation, Customer Care Center, United States Postal Service Help Desk, or increased imports of services like or directly competitive with those supplied at NCR Corporation, Customer Care Center, United States Postal Service Help Desk, West Columbia, South Carolina. The initial investigation also revealed that NCR Corporation, Customer Care Center, United States Postal Service Help Desk, West Columbia, South Carolina, did not supply a service to a firm that employed a worker group eligible to apply for Trade Adjustment Assistance (TAA).

A careful review of previously-submitted information confirmed that workers at NCR Corporation are separately identifiable by service supplied. As such, the Department determines that there are two worker groups at the West Columbia, South Carolina facility: the United States Postal Service (USPS) Help Desk within the Customer Care Center (TA-W-74,347) and the NCR Corporation's Call Center (TA-W-74,347A).

Therefore, for purposes of the Trade Act of 1974, as amended, the subject worker group of TA-W-74,347 consists of workers and former workers of USPS Help Desk who are engaged in employment related to the supply of technical support services for the USPS. This worker group excludes workers not assigned to the Customer Care Center and workers within the Customer Care Center who are assigned to other Help Desks. This worker group includes on-site leased workers of Volt Consulting.

Moreover, the subject worker group of TA-W-74,347A consists of workers and former workers of the Call Center who are engaged in employment related to the supply of technical support services. This worker group excludes workers not assigned to the Call Center located in West Columbia, South Carolina. This worker group includes on-site leased workers of Volt Consulting.

Information obtained during the reconsideration investigation confirmed that, during the relevant period, NCR Corporation did not shift to a foreign country the supply of services like or directly competitive with the services supplied by the USPS Help Desk, nor has there has been an acquisition from a foreign country by NCR Corporation of services like or directly competitive with those supplied by the USPS Help Desk. Rather, the services which were supplied by the workers at USPS Help Desk in West Columbia, South Carolina are being performed at other NCR Corporation facilities within the United States, per the client. Therefore, the Department determines that workers and former workers of NCR Corporation, Customer Care Center, United States Postal Service Help Desk, West Columbia, South Carolina have not met the eligibility criteria for TAA.

Information obtained during the initial investigation revealed that a significant number of workers at NCR Corporation, Call Center, West Columbia, South Carolina have been totally or partially separated, or are threatened with such separation; that NCR Corporation has shifted to a foreign country the supply of services like or directly competitive with the services supplied by the Call Center; and that the shift to India has contributed importantly to worker separations (total or partial), or threat of such separations, at NCR Corporation, Call Center, West Columbia, South Carolina. Therefore, the Department determines that workers and former workers of NCR Corporation, Call Center, West Columbia, South Carolina have met the eligibility criteria for TAA.

Conclusion

After careful review of the additional facts obtained during the reconsideration investigation, I affirm the original notice of negative determination of eligibility to apply for worker adjustment assistance for workers and former workers of NCR Corporation, Customer Care Center, United States Postal Service Help Desk, West Columbia, South Carolina (TA-W-74,347) and determine that workers and former workers of NCR Corporation, Call Center, West Columbia, South Carolina (TA-W-74,347A), meet the worker group certification criteria under Section 222(a) of the Act, 19 U.S.C. 2272(a). In accordance with Section 223 of the Act, 19 U.S.C. 2273, I make the following certification:

“All workers of NCR Corporation, Call Center, including on-site leased workers of Volt Consulting, West Columbia, South Carolina (TA-W-74,347A), who became totally or partially separated from employment on or after June 18, 2009, through two years from the date of this revised certification, and all workers in the group threatened with total or partial separation from employment on date of certification through two years from the date of certification, are eligible to apply for adjustment assistance under Chapter 2 of Title II of the Trade Act of 1974, as amended.”

Signed in Washington, DC, this 1st day of April, 2011.
Del Min Amy Chen,
Certifying Officer, Office of Trade Adjustment Assistance.

[FR Doc. 2011-8496 Filed 4-8-11; 8:45 am]

BILLING CODE 4510-FN-P